ENVIRONMENTAL PROTECTION AGENCY

[EPA-HQ-OAR-2016-0234; FRL-9947-47-OAR]

Access by EPA Contractors to Information Claimed as Confidential Business Information (CBI) Submitted Under Title II of the Clean Air Act and Related Regulations

AGENCY: Environmental Protection Agency (EPA).

ACTION: Notice.

SUMMARY: The EPA's Office of Transportation and Air Quality (OTAQ) plans to authorize various contractors to access information which will be submitted to the EPA under the Clean Air Act that may be claimed as, or may be determined to be, confidential business information (CBI). Access to this information, which is related to registration of fuels and fuel additives under 40 CFR part 79; various fuels reporting programs under 40 CFR part 80; and reporting of various greenhouse gas reporting items under the mandatory reporting rule of 40 CFR part 98, subparts A, LL and MM, will begin on June 20, 2016.

In addition to fuels-related reporting, this notice addresses access to information related to vehicles and engine compliance under 40 CFR part 86, 40 CFR part 600, 40 CFR part 1033, 40 CFR part 1036, 40 CFR part 1039, 40 CFR part 1042, 40 CFR part 1045, 40 CFR part 1048, 40 CFR part 1051, 40 CFR part 1054, 40 CFR part 1060, and 40 CFR part 1068.

DATES: The EPA will accept comments on this Notice through June 13, 2016.

FOR FURTHER INFORMATION CONTACT: Anne-Marie Pastorkovich, Environmental Protection Agency, 1200 Pennsylvania Ave. NW., MC 6405A, Washington, DC 20004; telephone number: 202-343-9623; fax number: 202-343-2800; email address: pastorkovich.anne-marie@epa.gov.

SUPPLEMENTARY INFORMATION:

I. Does this notice apply to me?

This action is directed to the general public. However, this action may be of particular interest to parties who submit information to the EPA regarding the following programs: Fuel and fuel additive registration (40 CFR part 79); and various fuels programs including reformulated gasoline, anti-dumping, gasoline sulfur, ultra low sulfur diesel, benzene content, and the renewable fuel standard (40 CFR part 80). Parties who may be interested include refiners, importers, producers of renewable fuels, parties who engage in Renewable Identification Number (RIN) transactions, and all those who submit compliance reports to the EPA via any method (e.g., via EPA's Central Data Exchange, or CDX), including those who engage in reporting via the EPA Moderated Transaction System (EMTS).

This action may be of particular interest to parties such as suppliers of coal-based liquid fuels and suppliers of petroleum products, as described in 40 CFR part 98 subparts LL and MM, respectively. (40 CFR part 98, subpart A contains general provisions related to registration and reporting.) Parties who may be interested in this notice include refiners, importers, and exporters of these products.

This action may also be of particular interest to parties who submit information to EPA's vehicle and engine compliance information system, commonly known as the Verify system, under 40 CFR part 86, 40 CFR part 600, 40 CFR part 1033, 40 CFR part 1036, 40 CFR part 1039, 40 CFR part 1042, 40 CFR part 1045, 40 CFR part 1048, 40 CFR part 1051, 40 CFR part 1054, 40 CFR part 1060, and 40 CFR part 1068.

This Federal Register notice may be of particular relevance to parties that submit or have submitted data under the above-listed programs or systems. Since other parties may also be interested, the Agency has not attempted to describe all the specific parties that may be affected by this action. If you have further questions regarding the applicability of this action to a particular party, please contact the person listed in FOR FURTHER INFORMATION CONTACT.

II. How can I get copies of this document and other related information?

A. Electronically

The EPA has established a public docket for this Federal Register notice under Docket EPA-HQ-OAR-2016-0234.

All documents in the docket are identified in the docket index available at http://www.regulations.gov. Although listed in the index, some information is not publicly available, such as confidential business information (CBI) or other information for which disclosure is restricted by statute. Certain materials, such as copyrighted material, will only be available in hard copy at the EPA Docket Center.

B. EPA Docket Center

Materials listed under Docket EPA-HQ-OAR-2016-0234 will be available for public viewing at the EPA Docket Center Reading Room, WJC West Building, Room 3334, 1301 Constitution Avenue NW., Washington, DC 20004. The EPA Docket Center Public Reading Room is open from 8:30 a.m. to 4:30 p.m., Monday through Friday, excluding Federal holidays. The telephone number for the Reading Room is (202) 566-1744, and the telephone number for the Air and Radiation Docket is (202) 566-1742.

III. Description of Programs and Potential Disclosure of Information Claimed as Confidential Business Information (CBI) to Contractors

The EPA's Office of Transportation and Air Quality (OTAQ) has responsibility for protecting public health and the environment by regulating air pollution from motor vehicles, engines, and the fuels used to operate them, and by encouraging travel choices that minimize emissions. In order to implement various Clean Air Act programs, and to permit regulated entities flexibility in meeting regulatory requirements (e.g., compliance on average), we collect compliance reports and other information from them. The information submitted may be claimed as confidential business information (CBI). Information submitted under such a claim is handled in accordance with EPA's regulations at 40 CFR part 2, subpart B and in accordance with the EPA procedures, including comprehensive system security plans (SSPs) that are consistent with those regulations. When the EPA has determined that disclosure of information claimed as CBI to contractors is necessary, the corresponding contract must address the appropriate use and handling of the information by the contractor and the contractor must require its personnel who require access to information claimed as CBI to sign written non-disclosure agreements before they are granted access to data.

In accordance with 40 CFR 2.301(h), we have determined that the contractors, subcontractors, and grantees (collectively referred to as “contractors”) listed below require access to CBI submitted to us under the Clean Air Act and in connection with various programs related to fuels, vehicles, and engines and we are providing notice and an opportunity to comment. OTAQ collects this data in order to monitor compliance with Clean Air Act programs and, in many cases, to permit regulated parties flexibility in meeting regulatory requirements. For example, data that may contain CBI are collected to register fuels and fuel additives prior to introduction into commerce. Certain programs are designed to permit regulated parties an opportunity to comply on average, or to engage in transactions using various types of credits. For example, OTAQ collects information about batches of gasoline that refiners produce to ensure compliance with reformulated gasoline standards and this batch information may be claimed as CBI. We are issuing this Federal Register notice to inform all affected submitters of information that we plan to grant access to material that may be claimed as CBI to the contractors identified below on a need-to-know basis.

Under Contract Number GSGD0022, CGI Incorporated, located at 1100 New Jersey Avenue SE., Suite 800, Washington DC 20003, and its subcontractor, CACI International Incorporated, located at 4114 Legato Road, Fairfax, VA 22033, provide report processing, program support, technical support, and information technology services that involve access to information claimed as CBI related to 40 CFR part 79, 40 CFR part 80, and 40 CFR part 98 subparts A, LL, and MM. Access to data, including information claimed as CBI, will commence on June 20, 2016 and will continue until March 26, 2019. If the contract is extended, this access will continue for the remainder of the contract without further notice.

This Federal Register notice is in addition to our Federal Register notice entitled “Access by EPA Contractors to Information Claimed as Confidential Business Information (CBI) Submitted under Title II of the Clean Air Act and Related Regulations,” which was published on December 21, 2015.¹ The access described under that notice and affecting submissions under 40 CFR part 79, 40 CFR part 80, and 40 CFR part 98 subparts A, LL, and MM continues and is unaffected by this notice.

¹ See 80 FR 79329 (December 21, 2015). The notice may be viewed at the Federal Register Web page at https://federalregister.gov/a/2015-32011.

Furthermore, in accordance with 40 CFR 2.301(h), we have determined that the contractors, subcontractors, and grantees (collectively referred to as “contractors”) listed below require access to CBI submitted to us under the Clean Air Act and in connection with the vehicle and engine compliance information system, commonly known as the Verify system, under 40 CFR part 86, 40 CFR part 600, 40 CFR part 1033, 40 CFR part 1036, 40 CFR part 1039, 40 CFR part 1042, 40 CFR part 1045, 40 CFR part 1048, 40 CFR part 1051, 40 CFR part 1054, 40 CFR part 1060, and 40 CFR part 1068. We are providing notice and an opportunity to comment. We are issuing this Federal Register notice to inform all affected submitters of information that we plan to grant access to material that may be claimed as CBI to the contractors identified below on a need-to-know basis.

Under Contact Number GS00Q09BGD0025, CSC Government Solutions LLC, located at 1500 Conference Center Drive, Chantilly, VA 20151 provides Information Technology (IT) support services related to the EPA's vehicle and engine compliance information system, commonly known as the Verify system, under 40 CFR part 86, 40 CFR part 600, 40 CFR part 1033, 40 CFR part 1036, 40 CFR part 1039, 40 CFR part 1042, 40 CFR part 1045, 40 CFR part 1048, 40 CFR part 1051, 40 CFR part 1054, 40 CFR part 1060, and 40 CFR part 1068. Access by this contractor to vehicle and engine data and information under this contract, including information claimed as CBI, has been ongoing since March 10, 2016 and is expected to continue for the remainder of the contract without further notice.

Parties who want further information about this Federal Register notice or about OTAQ's disclosure of information claimed as CBI to contactors may contact the person listed under FOR FURTHER INFORMATION CONTACT.

List of Subjects

Environmental protection; confidential business information.

Dated: June 2, 2016.
Byron J. Bunker,
Director, Compliance Division, Office of Transportation and Air Quality, Office of Air and Radiation.

[FR Doc. 2016-13580 Filed 6-7-16; 8:45 am]

BILLING CODE 6560-50-P